ENVIRONMENTAL PROTECTION AGENCY

40 CFR Part 300

[FRL-7900-2]

National Oil and Hazardous Substances Pollution Contingency Plan; National Priorities List

AGENCY: Environmental Protection Agency.

ACTION: Notice of Intent to Delete the RCA Del Caribe Superfund Site from the National Priorities List.

SUMMARY: The Environmental Protection Agency (EPA) Region 2 is issuing this notice of intent to delete the RCA Del Caribe Superfund Site (Site), located in Barceloneta, Puerto Rico, from the National Priorities List (NPL) and requests public comment on this action. The NPL is appendix B of the National Oil and Hazardous Substances Pollution Contingency Plan (NCP), 40 CFR part 300, which EPA promulgated pursuant to section 105 of the Comprehensive Environmental Response, Compensation, and Liability Act (CERCLA) of 1980, as amended. The EPA and the Commonwealth of Puerto Rico, through the Puerto Rico Environmental Quality Board, have determined that the release poses no significant threat to public health or the environment and, therefore, taking of remedial measures is not appropriate. In the “Rules and Regulations” section of today's Federal Register, we are publishing a direct final notice of deletion of the RCA Del Caribe Superfund Site without prior notice of this action because we view this as a noncontroversial revision and anticipate no significant adverse comment. We have explained our reasons for this deletion in the preamble to the direct final deletion. If we receive no significant adverse comment(s) on this notice of intent to delete or the direct final notice of deletion, we will not take further action on this notice of intent to delete. If we receive significant adverse comment(s), we will withdraw the direct final notice of deletion and it will not take effect. We will, as appropriate, address all public comments. If, after evaluating public comments, EPA decides to proceed with deletion, we will do so in a subsequent final deletion notice based on this notice of intent to delete. We will not institute a second comment period on this notice of intent to delete. Any parties interested in commenting must do so at this time. For additional information, see the direct final notice of deletion which is located in the Rules section of this Federal Register.

DATES: Comments concerning this Site must be received by May 18, 2005.

ADDRESSES: Written comments should be addressed to: Adalberto Bosque, Remedial Project Manager, Caribbean Environmental Protection Division, U.S. Environmental Protection Agency, Region II, Centro Europa Building, Suite 417, 1492 Ponce de León Avenue, San Juan, Puerto Rico 00907.

FOR FURTHER INFORMATION CONTACT: Mr. Adalberto Bosque, Remedial Project Manager, U.S. Environmental Protection Division, Caribbean Environmental Protection Division, Centro Europa Building Suite 417, 1492 Ponce de León Avenue, Santurce, Puerto Rico 00907, (787) 977-5825; fax number (787) 289-7104; e-mail address: bosque.adalberto@epa.gov.

SUPPLEMENTARY INFORMATION: For additional information, see the Direct Final Notice of Deletion which is located in the Rules section of this Federal Register.

Authority: 33 U.S.C. 1321(c)(2); 42 U.S.C. 9601-9675; E.O. 12777, 56 FR 54757, 3 CFR, 1991 Comp., p. 351; E.O. 12580, 52 FR 2923, 3 CFR, 1987 Comp., p. 193.

Dated: March 30, 2005.
George Pavlou,
Acting Deputy Regional Administrator, Region 2.

[FR Doc. 05-7573 Filed 4-15-05; 8:45 am]

BILLING CODE 6560-50-P